ENVIRONMENTAL PROTECTION AGENCY

[ER-FRL-6656-3]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in the Federal Register dated April 2, 2004 (69 FR 17403).

Draft EISs

ERP No. D-SFW-L64050-00 Rating EC2, Caspian Tern (sterna caspia) Management to Reduce Predation of Juvenile Salmonids in the Columbia River Estuary, To Comply with the 2002 Settlement Agreement, Endangered Species Act (ESA), Columbia River, WA, OR, ID, and CA.

Summary: EPA raised concerns about tern consumption of ESA-listed salmonids in the vicinity of proposed nesting sites, the need for alternative nesting sites and water quality impacts from the creation, enhancement and maintenance of tern nesting habitat.

ERP No. DB-NOA-E91007-00 Rating LO, South Atlantic Shrimp Fishery Management Plan, Amendment 6, Propose to Amend the Bycatch Reduction Device (BRD) Testing Protocol System, South Atlantic Region.

Summary: While EPA has no objection to the preferred alternatives, EPA requested clarification on why some alternatives only apply to either penaeid or rock shrimp, rather than to both.

Final EISs

ERP No. F-AFS-G65085-NM, Sacramento, Dry Canyon and Davis Grazing Allotments, Authorization of Livestock Grazing Activities, Lincoln National Forest, Sacramento Ranger District, Otero County, NM.

Summary: The Final EIS adequately responded to EPA's comments on the Draft EIS. EPA has no objection to the preferred action.

ERP No. F-COE-E39063-AL, Choctaw Point Terminal Project, Construction and Operation of a Container Handling Facility, Department of the Army (DA) Permit Issuance, Mobile County, AL.

Summary: EPA continues to express concern due to impacts to wetlands. EPA recommended that the issue of avoiding/minimizing impacts to wetlands be further addressed in the Record of Decision.

ERP No. F-FHW-F40364-WI, Burlington Bypass State Trunk Highway Project, Construction, from WI-36, WI-11 and WI-83, Funding and COE Section 404 Permit, In the City of Burlington, Racine, and Walworth Counties, WI.

Summary: While EPA's previous objection regarding direct impacts to the fresh fen have been avoided, EPA continues to express concerns about indirect impacts to the fen and the need to provide a detailed wetland compensation plan.

ERP No. F-IBW-G39039-00, Rio Grande Canalization Project (RGCP), Long-Term River Management Alternatives Practices, Implementation, from below Percha Dam in Sierra County, NM to American Dam in El Paso, TX.

Summary: EPA has no objection to the prepared action.

ERP No. F-NPS-G65086-TX, Big Bend National Park General Management Plan, Implementation, Brewster County, TX.

Summary: No formal comment letter was sent to the preparing agency.

ERP No. F-NPS-K65251-AZ, Petrified Forest National Park General Management Plan Revision, Implementation, Navajo and Apache Counties, AZ.

Summary: No formal comment letter was sent to the preparing agency.

ERP No. F-NPS-K65267-CA, Point Reyes National Seashore (PRNS) and the North District of Golden Gate National Recreation Area (GGNRA) Fire Management Plan, Implementation, Marin County, CA.

Summary: No formal comment letter was sent to the preparing agency.

ERP No. FB-NOA-G64002-00, Reef Fish Fishery Management Plan Amendment 22, To Set Red Snapper Sustainable Fisheries Act Targets and Thresholds, Set a Rebuilding Plan, and Establish Bycatch Reporting Methodologies for the Reef Fish Fishery, Gulf of Mexico.

Summary: While EPA has no objection to the proposed action, EPA did request clarification on whether additional regulatory controls in the Shrimp FMP may be necessary to limit the juvenile red snapper that are caught as bycatch in shrimp fishery.

Dated: September 28, 2004.
Ken Mittelholtz,
Environmental Protection Specialist, Office of Federal Activities.

[FR Doc. 04-22088 Filed 9-30-04; 8:45 am]

BILLING CODE 6560-50-P